DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Survey of Organized Consumer Self-Help Entities—(OMB No. 0930-0214, extension)—The mutual support and self-help movement in the United States has mushroomed, and significant numbers of mental health consumer-operated businesses and services are emerging. Increasingly, these groups, organizations, and business are providing support and services to mental health consumers and family members as a complement to, or substitution for, traditional mental health services. The purposes of this project of SAMHSA's Center for Mental Health Services are to estimate the number of these mental health groups, organizations, and businesses nationwide and to describe their characteristics—structure, types of activities engaged in, approaches to well-being and recovery, resources, and linkages to other community groups, organizations, and businesses and services, such as the mental health service delivery system. The survey will gather information from a sample of approximately 3,900 mutual support groups and self-help organizations run by and for recipients of mental health services and/or their family members and consumer-operated businesses and services. Computer Assisted Telephone Interviewing (CATI) will be used to conduct interviews with in-scope groups, organizations and businesses. This extension will allow for completion of the survey. The total response burden estimate is shown below.

Instrument | Number of respondents | Responses/ respondent | Average burden/ response (Hrs) | Total burden (Hrs)
Universe Development Contacts | 2736 | 1 | .17 | 465
Screener | 3,933 | 1 | .17 | 668
Questionaire | 3,933 | 1 | .42 | 1,652
Total |  |  |  | 2,785

Send comments to Nancy Pearce, SAMHSA Reports Clearance Officer, Room 16-105, Parklawn Building, 5600 Fishers Lane, Rockville, MD 20857. Written comments should be received within 60 days of this notice.

Dated: March 22, 2001.
Richard Kopanda,
Executive Officer, SAMHSA.

[FR Doc. 01-7730 Filed 3-28-01; 8:45 am]

BILLING CODE 4162-20-P